FEDERAL MARITIME COMMISSION

[Docket No. 25-07]

PKDC, LLC, Complainant v. COSCO Shipping Lines Co., Ltd., Respondent; Notice of Filing of Amended Complaint

Notice is given that an amended complaint has been filed with the Federal Maritime Commission (the “Commission”) by PKDC, LLC (the “Complainant”) against COSCO Shipping Lines Co., Ltd. (the “Respondent”). Complainant states that the Commission has subject-matter jurisdiction over this complaint pursuant to 46 U.S.C. 40101 et seq., and personal jurisdiction over Respondent as an ocean common carrier, as defined in 46 U.S.C. 40102(7), (9), and (18).

Complainant is a limited liability company existing under the laws of the state of Colorado with its principal place of business in Denver, Colorado.

Complainant identifies Respondent as a corporation organized under the laws of the People's Republic of China with its corporate headquarters in Shanghai, China, whose agent in the United States is COSCO Shipping Lines (North America) Inc. with its principal place of business in Secaucus, New Jersey.

Complainant alleges that Respondent violated 46 U.S.C. 41102(c) and 46 CFR 545.5. Complainant alleges these violations arose from the assessment of unjust and unreasonable demurrage and detention charges due to circumstances outside the control of Complainant, and other acts or omissions of Respondent.

An answer to the amended complaint must be filed with the Commission within 25 days after the date of service.

The full text of the amended complaint can be found in the Commission's electronic Reading Room at https://www2.fmc.gov/readingroom/proceeding/25-07/. This proceeding has been assigned to the Office of Administrative Law Judges. The initial decision of the presiding judge shall be issued by May 6, 2026, and the final decision of the Commission shall be issued by November 20, 2026.

(Authority: 46 U.S.C. 41301; 46 CFR 502.61(c))

Served: November 28, 2025.
David Eng,
Secretary.

[FR Doc. 2025-21770 Filed 12-1-25; 8:45 am]

BILLING CODE 6730-02-P